NATIONAL AERONAUTICS AND SPACE ADMINISTRATION

[Notice 07-072]

Government-Owned Inventions, Available for Licensing

AGENCY: National Aeronautics and Space Administration.

ACTION: Notice of availability of inventions for licensing.

SUMMARY: The inventions listed below assigned to the National Aeronautics and Space Administration, have been filed in the United States Patent and Trademark office, and are available for licensing.

DATES: September 26, 2007.

FOR FURTHER INFORMATION CONTACT: Bryan A. Geurts, Patent Counsel, Goddard Space Flight Center, Mail Code 140.1, Greenbelt, MD 20771-0001; telephone (301) 286-7351; fax (301) 286-9502.

NASA Case No. GSC-14683-1: Method of Bonding Dissimilar Materials;

NASA Case No. GSC-15055-1: Polarization-Preserving Waveguide Filter and Transformer;

NASA Case No. GSC 15060-1: Strain-Based Carbon Nanotube Magnetometer;

NASA Case No. GSC-15199-1: Systems, Methods and Apparatus for D-Dimensional Formulation and Implementation of Recursive Hierarchical Segmentation.

Dated: September 19, 2007.
Keith T. Sefton,
Deputy General Counsel, Administration and Management.

[FR Doc. E7-18924 Filed 9-25-07; 8:45 am]

BILLING CODE 7510-13-P